DEPARTMENT OF TRANSPORTATION

Federal Aviation Administration

14 CFR Part 39

[Docket No. FAA-2008-0892; Directorate Identifier 2008-CE-049-AD]

RIN 2120-AA64

Airworthiness Directives; Maule Aerospace Technology, Inc. Models M-4, M-5, M-6, M-7, and M-8 Series Airplanes

AGENCY: Federal Aviation Administration (FAA), Department of Transportation (DOT).

ACTION: Notice of proposed rulemaking (NPRM).

SUMMARY: We propose to adopt a new airworthiness directive (AD) for certain Maule Aerospace Technology, Inc. Models M-4, M-5, M-6, M-7, and M-8 series airplanes. This proposed AD would require you to paint the top of the rear elevator control horn, the elevator control cable end attached to the top of the rear control horn, the bottom of the forward elevator control horn, and the elevator control cable end attached to the bottom of the forward control. This proposed AD would also require you to insert a supplement into your maintenance program (maintenance manual). This proposed AD results from two reports of accidents where reversed elevator control rigging was a factor. We are proposing this AD to reduce the likelihood of a mechanic rigging the elevator controls backwards, which could result in elevator movement in the opposite direction from control input. This condition could lead to loss of control.

DATES: We must receive comments on this proposed AD by October 20, 2008.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Maule Aerospace Technology, Inc., 2099 Georgia Highway 133 South, Moultrie, Georgia 31788; telephone: (229) 985-2045; fax: (229) 985-2048; Internet: http://www.mauleairinc.com.

For Further Information, Contact One of the Following:

—Cindy Lorenzen, Aerospace Engineer, One Crown Center, 1895 Phoenix Blvd., Suite 450, Atlanta, Georgia 30349; telephone: (770) 703-6078; fax: (770) 703-6097; e-mail: cindy.lorenzen@faa.gov; or

—Gerald Avella, Aerospace Engineer, One Crown Center, 1895 Phoenix Blvd., Suite 450, Atlanta, Georgia 30349; telephone: (770) 703-6066; fax: (770) 703-6097; e-mail: gerald.avella@faa.gov.

SUPPLEMENTARY INFORMATION:

Comments Invited

We invite you to send any written relevant data, views, or arguments regarding this proposed AD. Send your comments to an address listed under the ADDRESSES section. Include the docket number, “FAA-2008-0892; Directorate Identifier 2008-CE-049-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have received two reports of accidents where reversed elevator control rigging was a factor. We are proposing this AD to reduce the likelihood of a mechanic rigging the elevator controls backwards, which could result in elevator movement in the opposite direction from control input.

This condition, if not corrected, could result in loss of control.

Relevant Service Information

We have reviewed Maule Aerospace Technology, Inc. Mandatory Service Bulletin No. 30, dated March 4, 2008.

The service information describes procedures for:

• Painting the top of the rear elevator control horn and the elevator control cable end attached to the top of the rear control horn;

• Painting the bottom of the forward elevator control horn and the elevator control cable end attached to the bottom of the forward control; and

• Inserting a supplement in the maintenance program (maintenance manual).

FAA's Determination and Requirements of the Proposed AD

We are proposing this AD because we evaluated all information and determined the unsafe condition described previously is likely to exist or develop on other products of the same type design. This proposed AD would require you to paint the top of the rear elevator control horn, the elevator control cable end attached to the top of the rear control horn, the bottom of the forward elevator control horn, and the elevator control cable end attached to the bottom of the forward control. This proposed AD would also require you to insert a supplement into your maintenance program (maintenance manual).

Costs of Compliance

We estimate that this proposed AD would affect 1,765 airplanes in the U.S. registry.

We estimate the following costs to do the proposed modification:

Labor cost | Parts cost | Total cost per airplane | Total cost on U.S. operators
1 work-hour × $80 per hour = $80 | $20 | $100 | $176,500

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Maule Aerospace Technology, Inc.: Docket No. FAA-2008-0892; Directorate Identifier 2008-CE-049-AD.

Comments Due Date

(a) We must receive comments on this airworthiness directive (AD) action by October 20, 2008.

Affected ADs

(b) None.

Applicability

(c) This AD applies to the following airplane models and serial numbers that are certificated in any category:

Model | Serial Nos.
Bee Dee M-4 | All serial numbers.
M-4 | All serial numbers.
M-4-180C | All serial numbers.
M-4-180V | 47001T through 47014T.
M-4-210 | All serial numbers.
M-4-210C | All serial numbers.
M-4-210S | All serial numbers.
M-4-220C | All serial numbers.
M-4-220S | All serial numbers.
M-4C | All serial numbers.
M-4S | All serial numbers.
M-4T | All serial numbers.
M-5-180C | All serial numbers.
M-5-200 | All serial numbers.
M-5-210C | All serial numbers.
M-5-210TC | All serial numbers.
M-5-220C | All serial numbers.
M-5-235C | All serial numbers.
M-6-180 | 8020C, 8043C, 8065C through 8067C.
M-6-235 | 7249C, 7356C, 7379C through 7444C, 7446C through 7450C, 7452C through 7459C, 7461C through 7466C, 7468C, 7469C, 7471C through 7475C, 7488C through 7514C, 7516C through 7522C.
M-7-235 | 4001C through 4132C, 12001C, 12002C.
M-7-235A | 24001C.
M-7-235B | 23001C through 23105C.
M-7-235C | 25001C through 25106C.
M-7-260 | 26001C through 26021C.
M-7-260C | 30001C through 30040C.
M-7-420A | 35001C.
M-7-420AC | 29001C, 29003C through 29007C.
M-8-235 | 15001C through 15006C.
MT-7-235 | 18001C through 18097C, 18099C, 18100C.
MT-7-260 | 27001C through 27014C.
MT-7-420 | 51001C, 51002C.
MX-7-160 | 19001C through 19046C.
MX-7-160C | 34001C.
MX-7-180 | 11001C through 11097C.
MX-7-180A | 20001C through 20064C.
MX-7-180AC | 33001C through 33010C.
MX-7-180B | 22001C through 22025C, 22027C.
MX-7-180C | 28001C through 28027C.
MX-7-235 | 10001C through 10122C.
MX-7-420 | 13001C through 13003C.
MXT-7-160 | 17001C through 17008C.
MXT-7-180 | 14000C through 14125C.
MXT-7-180A | 21001C through 21096C.

Unsafe Condition

(d) This AD results from two reports of accidents where reversed elevator control rigging was a factor. We are issuing this AD to reduce the likelihood of a mechanic rigging the elevator controls backwards, which could result in elevator movement in the opposite direction from control input. This failure could lead to loss of control.

Compliance

(e) To address this problem, you must do the following, unless already done:

Actions | Compliance | Procedures
(1) Using yellow enamel paint, color code the following: (i) the top of the rear elevator control horn; (ii) the elevator control cable end attached to the top of the rear control horn; (iii) the bottom of the forward elevator control horn; and (iv) the elevator control cable end attached to the bottom of the forward control. | Before the next time the elevator control cable is disconnected for any reason or within the next 12 calendar months after the effective date of this AD, whichever occurs first. | Follow Maule Aerospace Technology, Inc. Mandatory Service Bulletin No. 30, dated March 4, 2008.
(2) Insert the following text into the rigging procedure section of your FAA-approved maintenance program (e.g. maintenance manual): “CAUTION—BEFORE FLIGHT WHENEVER ELEVATOR CABLES ARE RECONNECTED OR NEW CABLES INSTALLED: Always check operation of elevators after a cable reconnect by pulling back on the control and ascertain that the elevators are in the UP position.” | Before the next time the elevator control cable is disconnected for any reason or within the next 12 calendar months after the effective date of this AD, whichever occurs first. | Follow Maule Aerospace Technology, Inc. Mandatory Service Bulletin No. 30, dated March 4, 2008. You may insert a copy of this AD or you may insert the text located on the bottom of page 3 of Maule Aerospace Technology, Inc. Mandatory Service Bulletin No. 30, dated March 4, 2008, into the FAA-approved maintenance program (e.g. maintenance manual).

Alternative Methods of Compliance (AMOCs)

(f) The Manager, Atlanta Aircraft Certification Office (ACO), FAA, has the authority to approve AMOCs for this AD, if requested using the procedures found in 14 CFR 39.19. Send information to ATTN: Gerald Avella, Aerospace Engineer, One Crown Center, 1895 Phoenix Blvd., Suite 450, Atlanta, Georgia 30349; telephone: (770) 703-6066; fax: (770) 703-6097; e-mail: gerald.avella@faa.gov. Before using any approved AMOC on any airplane to which the AMOC applies, notify your appropriate principal inspector (PI) in the FAA Flight Standards District Office (FSDO), or lacking a PI, your local FSDO.

Related Information

(g) To get copies of the service information referenced in this AD, contact Maule Aerospace Technology, Inc., 2099 Georgia Highway 133 South, Moultrie, Georgia 31788; telephone: (229) 985-2045; fax: (229) 985-2048; Internet: http://www.mauleairinc.com. To view the AD docket, go to U.S. Department of Transportation, Docket Operations, M-30, West Building Ground Floor, Room W12-140, 1200 New Jersey Avenue, SE., Washington, DC 20590, or on the Internet at http://www.regulations.gov.

Issued in Kansas City, Missouri, on August 12, 2008.
G. Wes Ryan,
Acting Manager, Small Airplane Directorate, Aircraft Certification Service.

[FR Doc. E8-19168 Filed 8-18-08; 8:45 am]

BILLING CODE 4910-13-P